DEPARTMENT OF THE INTERIOR

Minerals Management Service

Outer Continental Shelf (OCS), Eastern Gulf of Mexico (GOM) Planning Area, Proposed Oil and Gas Lease Sale 224, March 2008

AGENCY: Minerals Management Service (MMS), Interior.

ACTION: Notice of Availability (NOA) of the Final Supplemental Environmental Impact Statement (SEIS).

SUMMARY: The MMS has prepared a Final SEIS on a tentatively scheduled 2008 oil and gas leasing proposal (Sale 224) in the Eastern GOM Planning Area, off the States of Louisiana, Mississippi, Alabama, and Florida. As mandated in the recently enacted Gulf of Mexico Energy Security Act (GOMESA) of 2006 (Pub. L. 109-432, December 20, 2006), MMS shall offer a portion of the “181 Area,” located in the Eastern Planning Area, more than 125 miles from Florida for oil and gas leasing.

Authority: The NOA is published pursuant to the regulations (40 CFR 1503) under the authority of the National Environmental Policy Act (NEPA); the Environmental Quality Improvement Act of 1970, as amended (42 U.S.C. 4371 et seq.).

SUPPLEMENTARY INFORMATION: The recently enacted GOMESA of 2006 (Pub. L. 109-432, December 20, 2006) mandated MMS to offer a portion of the “181 Area” located in the newly defined Eastern Planning Area, more than 125 miles from Florida and west of the Military Mission Line (86 degrees, 41 minutes 30 seconds West longitude) for oil and gas leasing “as soon as practicable, but not later than 1 year, after the date of enactment of this Act.” The Act mandates offering this area “notwithstanding the omission of the 181 Area * * * from any Outer Continental Shelf leasing program under section 18 of the Outer Continental Shelf Lands Act (43 U.S.C. 1344).” However, this action is not exempted from other legal requirements, such as NEPA or the Coastal Zone Management Act (CZMA). The MMS has prepared a SEIS to the original Sale 181 EIS (2001) in order to address these requirements. The earliest MMS would be able to meet these requirements and offer this area for leasing would be approximately March 2008. To meet the 1-year requirement of GOMESA, this sale should be held no later than December 2007; however, MMS feels that it is in the best interests of all parties, including the American public as owners of these resources, that MMS take the time necessary to fully comply with all pertinent laws, rules, and regulations, and to allow the public an opportunity to participate in the NEPA process. It also is more economical and efficient for the Government and industry to hold this sale in conjunction with Central Planning Area Sale 206 at the same time and location. The area to be offered in Sale 224 is small, approximately 118 tracts, whereas recent Central Planning Area sales have offered over 4,000 tracts. The logistics of holding a sale are intensive and relatively costly; therefore, it makes sense to hold the smaller sale in conjunction with a larger sale. Additionally, holding Sale 224 in conjunction with Sale 206 would help ensure that a sufficient number of companies would be represented in bidding, which may enhance the number of bids and possibly the revenue generated by more competitive bidding.

The final SEIS associated with this NOA updated the environmental and socioeconomic analyses in the Gulf of Mexico OCS Oil and Gas Lease Sale 181, Eastern Planning Area Final EIS (OCS EIS/EA MMS 2001-051), which addressed the original “Sale 181 Area.”

SEIS Availability: To obtain a single, printed or CD-ROM copy of the final SEIS, you may contact the MMS, GOM OCS Region, Public Information Office (MS 5034),1201 Elmwood Park Boulevard, Room 114, New Orleans, Louisiana 70123-2394 (1-800-200-GULF). An electronic copy of the final SEIS is available at the MMS Internet Web site at http://www.gomr.mms.gov/homepg/regulate/environ/nepa/nepaprocess.html. Many libraries along the Gulf Coast have been sent copies of the final SEIS. To find out which libraries, and their locations, have copies of the final SEIS for review, you may contact the MMS Public Information Office or visit the MMS Internet Web site at http://www.gomr.mms.gov/homepg/regulate/environ/libraries.html.

Comments: Federal, State, and local government agencies, and other interested parties are requested to send their written comments on the final SEIS in one of the following two ways:

1. In written form enclosed in an envelope labeled “Comments on the Lease Sale 224 SEIS” and mailed (or hand carried) to the Regional Supervisor, Leasing and Environment (MS 5410), Minerals Management Service, Gulf of Mexico OCS Region, 1201 Elmwood Park Boulevard, New Orleans, Louisiana 70123-2394.

2. Electronically to the MMS e-mail address: environment@mms.gov.

Comments should be submitted no later than 30 days from the publication of this NOA.

FOR FURTHER INFORMATION CONTACT: Mr. Dennis Chew, Minerals Management Service, Gulf of Mexico OCS Region, 1201 Elmwood Park Boulevard, New Orleans, Louisiana 70123-2394, or by phone at (504) 736-2793.

Dated: October 12, 2007.
Chris C. Oynes,
Associate Director for Offshore Minerals Management.

[FR Doc. E7-21279 Filed 10-29-07; 8:45 am]

BILLING CODE 4310-MR-P